DEPARTMENT OF ENERGY

Federal Energy Regulatory Commission

[Project No. 13704-002]

Free Flow Power Missouri 2, LLC; Notice of Application Tendered for Filing With the Commission and Soliciting Additional Study Requests

Take notice that the following hydroelectric application has been filed with the Commission and is available for public inspection.

a. Type of Application: Major.

b. Project No.: P-13704-002.

c. Date Filed: November 13, 2013.

d. Applicant: Free Flow Power Missouri 2, LLC.

e. Name of Project: Arkabutla Lake Hydroelectric Project.

f. Location: At the U.S. Army Corps of Engineers' (Corps) existing Arkabutla Lake Dam, on the Coldwater River, near the Town of Hernando, Tate and DeSoto Counties, Mississippi. The proposed project would occupy approximately 48.2 acres of federal lands administered by the Corps.

g. Filed Pursuant to: Federal Power Act 16 U.S.C. 791 (a)-825(r).

h. Applicant Contact: Mr. Thomas Feldman, Vice President of Project Development, Free Flow Power Corporation, 239 Causeway Street, Suite 300, Boston, MA 02114, (978) 283-2822.

i. FERC Contact: Patti Leppert, (202) 502-6034, patricia.leppert@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to 18 CFR section 4.32(b)(7) of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 13, 2014.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13704-002.

m. The application is not ready for environmental analysis at this time.

n. The proposed project would utilize the existing Corps' Arkabutla Lake Dam and Reservoir, and would consist of the following new facilities: (1) A steel liner installed within the existing concrete outlet tunnel; (2) a steel-lined, reinforced concrete bifurcation at the end of the existing conduit dividing flows between the existing stilling basin and the powerhouse; (3) a 12-foot-diameter, 272-foot-long penstock; (4) a powerhouse with two generating units having a total installed capacity of 5.1 megawatts; (5) a 200-foot-long tailrace channel; (6) a 2,712-foot-long transmission line; and (7) appurtenant facilities.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Mississippi State Historic Preservation Officer, as required by section 106 of the National Historic Preservation Act and the regulations of the Advisory Council on Historic Preservation, 36 CFR 800.4.

q. Procedural schedule: The application will be processed according to the following preliminary Hydro Licensing Schedule. Revisions to the schedule will be made as appropriate.

Issue Notice of Acceptance—March 2014.

Issue Scoping Document 1 for comments—April 2014.

Comments on Scoping Document 1—May 2014.

Issue Scoping Document 2 (if necessary)—July 2014.

Issue notice of ready for environmental analysis—July 2014.

Commission issues EA or draft EA—January 2015.

Comments on EA or draft EA—February 2015.

Commission issues final EA (if necessary)—April 2015.

Dated: November 21, 2013.
Kimberly D. Bose,
Secretary.

[FR Doc. 2013-28544 Filed 11-27-13; 8:45 am]

BILLING CODE 6717-01-P